OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Employee Services, 202-606-2246.

SUPPLEMENTARY INFORMATION: Appearing in the listing below are the individual authorities established under Schedules A, B, and C between March 1, 2010, and March 31, 2010. These notices are published monthly in the Federal Register at http://www.gpoaccess.gov/fr/. A consolidated listing of all authorities as of June 30 is also published each year. The following Schedules are not codified in the Code of Federal Regulations. These are agency-specific exceptions.

Schedule A

Section 213.3103 Executive Office of the President

(b) Office of Management and Budget.

(1) Not to exceed 20 positions at grades GS-5/15.

Schedule B

No Schedule B authorities to report during March 2010.

Schedule C

The following Schedule C appointments were approved during March 2010.

Office of Management and Budget

BOGS10014 Special Assistant for Legislative Affairs. Effective March 17, 2010.

Department of State

DSGS69978 Staff Assistant to the Chief of Protocol. Effective March 1, 2010.

DSGS70075 Special Assistant to the Ambassador-At-Large, Director. Effective March 1, 2010.

DSGS70010 Senior Advisor to the Under Secretary for Public Diplomacy and Public Affairs. Effective March 2, 2010.

DSGS70012 Legislative Management Officer for Legislative and Intergovernmental Affairs. Effective March 2, 2010.

DSGS70016 Staff Assistant to the Assistant Secretary, Bureau of Educational and Cultural Affairs. Effective March 11, 2010.

DSGS70104 Special Assistant for Public Affairs. Effective March 12, 2010.

DSGS70105 Special Assistant for Public Affairs. Effective March 12, 2010.

DSGS70006 Deputy Chief of Protocol to the Chief of Protocol. Effective March 17, 2010.

DSGS70084 Special Assistant for European and Eurasian Affairs. Effective March 18, 2010.

DSGS70085 White House Liaison for Management. Effective March 26, 2010.

Department of the Treasury

DYGS00359 Senior Advisor for International Affairs. Effective March 30, 2010.

Department of Defense

DDGS17273 Special Counsel to the General Counsel. Effective March 4, 2010.

DDGS17275 Defense Fellows for White House Liaison. Effective March 5, 2010.

DDGS17276 Special Assistant for Cost Assessment and Program Evaluation. Effective March 19, 2010.

Department of the Army

DWGS10097 Special Assistant to the General Counsel. Effective March 8, 2010.

Department of Justice

DJGS00558 Press Secretary, Office of Public Affairs. Effective March 8, 2010.

DJGS00559 Counsel to the Senior Counselor for Access to Justice. Effective March 11, 2010.

DJGS00602 Senior Advisor to the Assistant Attorney General, Office of Justice Programs. Effective March 22, 2010.

DJGS00074 Confidential Assistant to the Assistant Attorney General (Legislative Affairs). Effective March 29, 2010.

DJGS00604 Senior Counsel for Access to Justice. Effective March 29, 2010.

Department of Homeland Security

DMGS00846 Counselor to the Director, United States Citizenship and Immigration Services. Effective March 10, 2010.

DMGS00848 Special Assistant for Policy. Effective March 10, 2010.

DMGS00849 Director of Public Engagement for Intergovernmental Affairs. Effective March 11, 2010.

DMGS00847 Senior Advisor to the Assistant Secretary for Policy. Effective March 16, 2010.

DMGS00850 Counselor to the Principal Deputy General Counsel. Effective March 18, 2010.

DMGS00808 Special Assistant to the Chief of Staff. Effective March 25, 2010.

DMGS00760 Director of Intergovernmental Affairs to the Director of External Affairs and Communications. Effective March 26, 2010.

DMGS00349 Senior Counselor for Infrastructure Protection. Effective March 31, 2010.

Department of Agriculture

DAGS60593 Special Assistant for Rural Development. Effective March 23, 2010.

DAGS60594 Special Assistant to the Administrator, Rural Housing Service. Effective March 23, 2010.

DAGS60596 Chief of Staff to the Administrator, Rural Housing Service. Effective March 23, 2010.

DAGS60595 Special Assistant for Rural Development. Effective March 24, 2010.

DAGS60597 Press Assistant to the Director of Communications. Effective March 31, 2010.

DAGS60598 Confidential Assistant for Rural Development. Effective March 31, 2010.

Department of Commerce

DCGS00451 Senior Advisor for Manufacturing and Services. Effective March 10, 2010.

DCGS00495 Special Assistant to the Chief of Staff. Effective March 12, 2010.

DCGS00387 Special Assistant to the Administrator and Policy Associate for National Oceanic and Atmospheric Administration. Effective March 22, 2010.

Department of Labor

DLGS60017 Senior Legislative Officer for Congressional and Intergovernmental Affairs. Effective March 3, 2010.

DLGS60210 Associate Director for Faith Based and Community Initiatives, to the Chief of Staff. Effective March 18, 2010.

DLGS60153 Chief of Staff for International Affairs. Effective March 25, 2010.

DLGS60152 Director, Office of Faith Based and Community Initiatives to the Chief of Staff. Effective March 30, 2010.

Department of Education

DBGS00350 Special Assistant to the General Counsel. Effective March 5, 2010.

DBGS00275 Confidential Assistant for Planning, Evaluation, and Policy Development. Effective March 25, 2010.

DBGS00207 Special Assistant for Elementary and Secondary Education. Effective March 30, 2010.

DBGS00326 Special Assistant for Elementary and Secondary Education. Effective March 31, 2010.

DBGS00686 Deputy General Counsel for Accountability to the General Counsel. Effective March 31, 2010.

Environmental Protection Agency

EPGS10005 Associate Assistant Administrator for Outreach, Diversity, and Collaboration to the Assistant Administrator for Administration and Resources Management. Effective March 8, 2010.

EPGS10006 Program Advisor for Congressional and Intergovernmental Relations. Effective March 31, 2010.

Securities and Exchange Commission

SEOT21000 Confidential Assistant to the Chairman. Effective March 31, 2010.

SEOT61000 Speechwriter to the Chairman. Effective March 31, 2010.

Department of Energy

DEGS00800 Senior Advisor to the Principal Deputy Assistant Secretary. Effective March 3, 2010.

DEGS00803 Special Assistant to the Deputy Secretary of Energy. Effective March 3, 2010.

Federal Energy Regulatory Commission

DRGS10011 Confidential Assistant to the Member Federal Energy Regulatory Commission. Effective March 10, 2010.

Small Business Administration

SBGS00702 Policy Associate to the White House Liaison and Deputy Chief of Staff. Effective March 1, 2010.

SBGS00703 White House Liaison to the Chief of Staff. Effective March 4, 2010.

General Services Administration

GSGS01438 Special Assistant to the Deputy Administrator. Effective March 29, 2010.

Export-Import Bank

EBSL42019 Senior Vice President for Congressional Affairs to the President and Chairman. Effective March 8, 2010.

EBSL10001 Deputy Chief of Staff to the President and Chairman. Effective March 12, 2010.

Occupational Safety and Health Review Commission

SHGS60012 Counsel to the Commission Member. Effective March 17, 2010.

SHGS00017 Confidential Assistant to the Commission Member. Effective March 30, 2010.

National Aeronautics and Space Administration

NNGS05892 Legislative Affairs Specialist for Legislative Affairs and Intergovernmental Affairs. Effective March 29, 2010.

NNGS05910 Special Assistant to the General Counsel. Effective March 29, 2010.

NNGS05916 Legislative and Industrial Affairs Specialist for Legislative and Intergovernmental Affairs. Effective March 29, 2010.

NNGS10058 Special Assistant for Public Affairs. Effective March 29, 2010.

National Credit Union Administration

CUOT01382 Senior Advisor to the Chairman. Effective March 3, 2010.

CUOT91402 Staff Assistant to the Vice Chair. Effective March 10, 2010.

TDGS00005 Chief of Staff to the Director. Effective March 12, 2010.

Commodity Futures Trading Commission

CTOT00056 Special Assistant to a Commissioner. Effective March 5, 2010.

Department of Housing and Urban Development

DUGS60280 Special Assistant to the White House Liaison. Effective March 3, 2010.

DUGS60417 Special Assistant to the White House Liaison. Effective March 3, 2010.

DUGS60512 Special Assistant to the Chief of Staff. Effective March 3, 2010.

DUGS60505 Deputy Assistant Secretary for Congressional and Intergovernmental Relations. Effective March 4, 2010.

DUGS60581 Legislative Specialist for Congressional and Intergovernmental Relations. Effective March 4, 2010.

DUGS60036 Special Assistant to the Senior Advisor. Effective March 10, 2010.

DUGS60319 Regional Director for Operations and Management. Effective March 10, 2010.

DUGS60517 Regional Director for Operations and Management. Effective March 10, 2010.

DUGS60534 Deputy Director to the Senior Advisor. Effective March 10, 2010.

DUGS60549 Senior Advisor to the Chief of Staff. Effective March 10, 2010.

DUGS00047 Special Assistant to the White House Liaison. Effective March 12, 2010.

DUGS60354 Senior Advisor for Fair Housing and Equal Opportunity. Effective March 12, 2010.

DUGS60068 Special Assistant to the Director, Office of Sustainable Housing & Communities. Effective March 12, 2010.

DUGS60434 Staff Assistant for Field Policy and Management. Effective March 15, 2010.

DUGS60379 Director, Office of Executive Scheduling and Operations to the Chief of Staff. Effective March 25, 2010.

Department of Transportation

DTGS60337 Director of Communications to the Administrator. Effective March 23, 2010.

DTGS60239 Director, Office of Congressional and Public Affairs to the Administrator. Effective March 26, 2010.

DTGS60313 Director, Office of Governmental Affairs, Policy, and Strategic Planning to the Administrator. Effective March 26, 2010.

National Transportation Safety Board

TBGS11504 Special Assistant to the Chairman. Effective March 10, 2010.

TBGS91567 Special Assistant to the Vice Chairman. Effective March 10, 2010.

Authority: 5 U.S.C. 3301 and 3302; E.O. 10577, 3 CFR 1954-1958 Comp., p. 218.

U.S. Office of Personnel Management.
John Berry,
Director.

[FR Doc. 2010-10181 Filed 4-30-10; 8:45 am]

BILLING CODE 6325-39-P